ENVIRONMENTAL PROTECTION AGENCY

[FRL-7469-6]

Science Advisory Board; Drinking Water Committee; Notification of Public Advisory Committee Meeting

AGENCY: Environmental Protection Agency (EPA).

ACTION: Notice.

SUMMARY: The Environmental Protection Agency (EPA), Science Advisory Board (SAB), Drinking Water Committee (DWC), a Federal Advisory Committee, is announcing a public meeting.

DATES: The meeting will begin on Friday, April 11, 2003, at 9 a.m. (Eastern Time) and adjourn no later than 5:30 p.m. that day.

ADDRESSES: The meeting will be held in Washington, DC. Location of the meeting will be announced on the SAB Web site, http://www.epa/sab. For further information concerning the meeting, please contact Dr. James Rowe (see contact information below).

FOR FURTHER INFORMATION CONTACT: Any member of the public wishing further information concerning this meeting must contact Dr. James Rowe, Designated Federal Officer, USEPA Science Advisory Board (1400A), Suite 6450, 1200 Pennsylvania Avenue, NW., Washington, DC 20460; telephone/voice mail at (202) 564-6488; fax at (202) 501-0582; or via e-mail at rowe.james@epa.gov.

SUPPLEMENTARY INFORMATION: 1. Action: Pursuant to the Federal Advisory Committee Act, Public Law 92-463, Notice is hereby given that the Drinking Water Committee (DWC) of the U.S. EPA Science Advisory Board (SAB) will meet on Friday, April 11, 2003 to receive informational briefings from the Office of Water (OW) and the Office of Research and Development (ORD) regarding EPA's science and research program to support its risk management under the Safe Drinking Water Act. The meeting is open to the public, however, seating is limited and available on a first come basis.

2. Availability of the Meeting Materials: Any briefing materials will be made available from the EPA's Office of Water (OW) and the Office of Research Development (ORD) at the time of the meeting. The proposed agenda for the meeting will be posted approximately 10 calendar days prior to the meeting at the SAB's Web site at http://www.epa.gov/sab. For questions and information concerning the agenda, please contact Dr. James Rowe (see contact information above).

3. Background on the Meeting: The purpose of this meeting is to receive informational briefings from the Office of Water and the Office of Research and Development regarding EPA's science/research program to support its risk management under the Safe Drinking Water Act. Public comment is not formally solicited but is welcome (see below).

4. Providing Oral or Written Comments at SAB Meetings: It is the policy of the EPA Science Advisory Board (SAB) to accept written public comments of any length, and to accommodate oral public comments whenever possible. The EPA SAB expects that public statements presented at its meetings will not be repetitive of previously submitted oral or written statements.

Oral Comments: In general, each individual or group requesting an oral presentation at a face-to-face meeting will be limited to a total time of ten minutes (unless otherwise indicated). For teleconference meetings, opportunities for oral comment will usually be limited to no more than three minutes per speaker and no more than fifteen minutes total. Interested parties should contact the DFO at least one week prior to the meeting in order to be placed on the public speaker list for the meeting. Speakers may attend the meeting and provide comment up to the meeting time. Speakers should bring at least 35 copies of their comments and presentation slides for distribution to the reviewers and public at the meeting.

Written Comments: Although the SAB accepts written comments until the date of the meeting (unless otherwise stated), written comments should be received in the SAB Staff Office at least one week prior to the meeting date so that the comments may be made available to the review panel for their consideration. Comments should be supplied to Dr. James Rowe at the contact information provided in this notice in the following formats: ONE hard copy with original signature, and one electronic copy via e-mail (acceptable file format: Adobe Acrobat, WordPerfect, Word, or Rich Text files (in IBM-PC/Windows 95/98 format). Those providing written comments and who attend the meeting are also asked to bring 35 copies of their comments for public distribution.

5. Meeting Access: Individuals requiring any additional special accommodation at this meeting should contact the DFO indicated above for this FR notice, at least five business days prior to the meeting so that appropriate arrangements can be made.

Dated: March 13, 2003.
Vanessa T. Vu,
Director, EPA Science Advisory Board Staff Office.

[FR Doc. 03-6577 Filed 3-18-03; 8:45 am]

BILLING CODE 6560-50-P